NATIONAL CREDIT UNION ADMINISTRATION

Agency Information Collection Activities: Proposed Collection; Comment Request; Consumer Assistance Center

AGENCY: National Credit Union Administration (NCUA).

ACTION: Notice and request for comments.

SUMMARY: The NCUA, as part of its continuing efforts to reduce paperwork and respondent burden, invites the general public and other Federal agencies to comment on this proposed collection, as required by the Paperwork Reduction Act of 1995. The NCUA is soliciting comments on the information collections associated with the Consumer Assistance Center.

DATES: Written comments should be received on or before January 2, 2018 to be assured of consideration.

ADDRESSES: Interested persons are invited to submit written comments on the information collections to Dawn Wolfgang, National Credit Union Administration, 1775 Duke Street, Suite 5080, Alexandria, Virginia 22314; Fax No. 703-519-8579; or Email at PRAComments@NCUA.gov.

FOR FURTHER INFORMATION CONTACT: Requests for additional information should be directed to the address above.

SUPPLEMENTARY INFORMATION:

OMB Number: 3133—NEW.

Title: Consumer Assistance Center.

Abstract: NCUA has centralized the intake of consumer complaints and inquiries under the Consumer Assistance Center (CAC), via the MyCreditUnion.gov. The CAC assists consumer with information about federal financial consumer protection and share insurance matters and assists in resolving disputes with credit. Consumers can make inquiries or submit a complaint electronically through the MyCreditUnion.gov Web site. The on-line portal offers a template for consumers to use to aid in identifying their concerns.

Type of Review: Existing collection in use without an OMB control number.

Affected Public: Individuals and Households; Private sector: Not-for-profit institutions.

Estimated No. of Respondents: 16,812.

Estimated Frequency: 1.

Estimated No. of Responses: 16,812.

Estimated Time per Response: 10 minutes, consumer inquiry form; 5 minutes, inquiry form; 30 minutes, appraisal form.

Estimated Total Annual Burden Hours: 2,404.

Request for Comments: Comments submitted in response to this notice will be summarized and included in the request for Office of Management and Budget approval. All comments will become a matter of public record. The public is invited to submit comments concerning: (a) Whether the collection of information is necessary for the proper performance of the function of the agency, including whether the information will have practical utility; (b) the accuracy of the agency's estimate of the burden of the information collection, including the validity of the methodology and assumptions used; (c) ways to enhance the quality, utility, and clarity of the information to be collected; and (d) ways to minimize the burden of the information collection on respondents, including the use of automated collection techniques or other forms of information technology.

By Gerard Poliquin, Secretary of the Board, the National Credit Union Administration, on October 25, 2017.

Dated: October 26, 2017.
Dawn D. Wolfgang,
NCUA PRA Clearance Officer.

[FR Doc. 2017-23610 Filed 10-30-17; 8:45 am]

BILLING CODE 7535-01-P